GENERAL SERVICES ADMINISTRATION

41 CFR Parts 102-117 and 102-118

[FMR Case 2018-102-5; Docket No. GSA-FMR-2018-0014, Sequence No. 1]

RIN 3090-AJ97

Federal Management Regulation; Technical Amendments

AGENCY: Office of Government-wide Policy (OGP), General Services Administration (GSA).

ACTION: Direct final rule.

SUMMARY: GSA is issuing a direct final rule amending the Federal Management Regulation (FMR) to effectuate editorial and technical changes including updating authorities, agency contact information, website and email addresses, simplifying requirements, and removing provisions that are no longer applicable. These changes are needed to provide accurate information for agencies to properly manage their Transportation Management and Transportation Payment and Audit programs.

DATES: Effective August 29, 2022 without further action, unless adverse comment is received by June 30, 2022. If adverse comment is received, GSA will publish a timely withdrawal of the rule in the Federal Register.

ADDRESSES: Submit comments in response to FMR Case 2018-102-5 to the Federal eRulemaking portal at https://www.regulations.gov by searching for “FMR Case 2018-102-5”. Select the link “Comment Now” that corresponds with “FMR Case 2018-102-5”. Follow the instructions provided at the “Comment Now” screen. Please include your name, company name (if any), and “FMR Case 2018-102-5” on your attached document. If your comment cannot be submitted using https://www.regulations.gov, call or email the points of contact in the FOR FURTHER INFORMATION CONTACT section of this document for alternate instructions.

Instructions: Please submit comments only and cite “FMR Case 2018-102-5” in all correspondence related to this case. Comments received generally will be posted without change to https://www.regulations.gov, including any personal and/or business confidential information provided. To confirm receipt of your comment(s), please check https://www.regulations.gov, approximately two to three days after submission to verify posting.

FOR FURTHER INFORMATION CONTACT: For clarification of content, contact Mr. Ron Siegel, Program Analyst, Office of Government-wide Policy, at 202-702-0840. For information pertaining to status or publication schedules, contact the Regulatory Secretariat at 202-501-4755. Please cite FMR Case 2018-102-5.

SUPPLEMENTARY INFORMATION:

A. Background

Pursuant to 40 United States Code (U.S.C.) 501, the Administrator of General Services (Administrator) has the authority to procure and supply personal property and nonpersonal services for executive agencies including transportation and traffic management services. This statute also provides the Administrator with the authority to prescribe policies and methods for the procurement of transportation and traffic management services. These policies and methods for managing transportation and traffic management programs are codified in 41 CFR part 102-117 (FMR part 102-117).

The Travel and Transportation Reform Act of 1998 (Pub. L. 105-264) established agency statutory requirements for prepayment audits of Federal agency transportation expenses and established GSA's statutory authority for audit oversight to protect the financial interests of the Government (31 U.S.C. 3726). GSA has codified these requirements in 41 CFR part 102-118, Transportation Payment and Audit (FMR part 102-118).

GSA amended FMR part 102-117 in 2015 (80 FR 57102), and again in 2016 (81 FR 65298) along with FMR part 102-118. Since then, numerous technological changes have automated processes; GSA consolidated properties which eliminated physical addresses; and statutory changes require regulatory modifications such as references to legal citations.

This rule updates contact information including phone numbers, email, website, and mailing addresses. It corrects hyperlinks, form numbers, and legal references. It also clarifies conditions for using forms and revises outdated and inaccurate administrative procedures. Furthermore, this rule will remove references to outdated information, eliminate references to both GSA's obsolete eLearning Transportation Officer training site and its web-based reporting tool, Federal Interagency Transportation System.

This rule clarifies when the Standard Form 1113, Public Voucher for Transportation Charges, is required to be submitted by a transportation service provider and when it is optional. The rule also eliminates references to the U.S. Government Bill of Lading—Privately Owned Personal Property (PPGBL) form number, Optional Form 1203. The form was canceled in 2002 (67 FR 35113). The Department of Defense continues to use this form but refers to it only by its name, U.S. Government Bill of Lading—Privately Owned Personal Property (PPGBL), therefore the FMR is being updated to address the form by its name. Furthermore, agencies were instructed in 2002 to use the Government Bill of Lading (GBL), SF 1103, in place of the PPGBL. This rule also removes the references to the Memorandum Copies of the GBL (1103A) and PPGBL (1203A) since the forms are no longer maintained by GSA and the GBL is available online as a fillable form which enables agencies to print multiple copies.

GSA is removing the unnecessary procedures for agencies to request the GBL and the Government Transportation Request (GTR) forms and their corresponding control numbers. Both forms are available online in the GSA Forms Library. FMR § 102-118.245 instructs agencies to request document control numbers for these forms from the GSA Inventory Management Branch in Fort Worth, Texas; however that office was closed in 2015. The Technical Services and Commodity Branch was assigned the duty of providing control numbers for the documents but no longer provides these numbers to agencies. Since an agency is required to create a unique numbering system to track transportation documents, it should already include any GBLs and GTRs it issues in that numbering scheme. Removing GSA from this process does not change an agency's accountability or responsibility for these documents and does not change how or when the forms can be used. Agencies are still required to use commercial forms and payment practices except in the limited circumstances as specified in these FMR parts.

Agencies that participate in a GSA rate tender program no longer pay an administrative service charge to GSA. Therefore, this rule will update FMR § 102-117.35 to remove the reference that it is a disadvantage for an agency to use a GSA rate tender program because the participating agency is charged an administrative service charge. Any fees assessed by GSA are addressed in GSA procurement documents, are not necessarily a disincentive for an agency, and are generally not regulatory.

Additionally, in 2008, Public Law 110-246 amended Title 31 of the U.S. Code to include the elimination of the statute of limitations applicable to collection of debt by administrative offset. This amendment removes the obsolete requirement that imposed a 10-year limitation on agencies to collect ordinary debts and it updates the references in FMR part 102-118 to provide agencies with the proper information.

Finally, this rule corrects the reference to the Department of State's website for Civil Air Transport Agreements, clarifies the deadlines for Federal agencies to submit documents to the United States Maritime Administration (MARAD), and corrects inaccurate information for contacting MARAD. The intended effect of this rule is to enhance accuracy, decrease workload, and reduce misunderstandings of the regulations.

B. Analysis of Costs and Benefits

The changes presented in this rule are predominantly administrative and are expected to create little or no additional cost and insignificant savings to Federal and non-Federal entities that are required to comply with either or both of these FMR parts. Implementing this rule will decrease confusion for agencies, streamline invoicing procedures for transportation vendors, and reduce time lost going to outdated links or attempting to use inaccurate references.

C. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under Section 6(b) of E.O. 12866, Regulatory Planning and Review, dated September 30, 1993.

D. Congressional Review Act

The Office of Information and Regulatory Affairs has determined that this rule is not a “major rule” as defined by 5 U.S.C. 804(2). Additionally, this rule is excepted from the Congressional Review Act (CRA) reporting requirements prescribed under 5 U.S.C. 801 since it relates to agency management or personnel under 5 U.S.C. 804(3).

E. Regulatory Flexibility Act

This rule will not have a significant economic impact on a substantial number of small entities within the meaning of the Regulatory Flexibility Act, 5 U.S.C. 601, et seq., because it applies to agency management or personnel.

Therefore, an Initial Regulatory Flexibility Analysis has not been performed. GSA invites comments from small business concerns and other interested parties on the expected impact of this rule on small entities.

GSA will also consider comments from small entities concerning the existing regulations in subparts affected by the rule in accordance with 5 U.S.C. 610. Interested parties must submit such comments separately and should cite 5 U.S.C 610 (FMR Case 2018-102-5), in correspondence.

F. Paperwork Reduction Act

The Paperwork Reduction Act does not apply because the changes to the FMR do not impose recordkeeping or information collection requirements, or the collection of information from offerors, contractors, or members of the public that require the approval of the Office of Management and Budget under 44 U.S.C. 3501, et seq.

List of Subjects

41 CFR Part 102-117

Freight, Government property management, Moving of household goods, Reporting and recordkeeping requirements, Transportation.

41 CFR Part 102-118

Accounting, Claims, Government property management, Reporting and recordkeeping requirements, Transportation.

Robin Carnahan,
Administrator.

For reasons set forth in the preamble, GSA is amending 41 CFR parts 102-117 and 102-118 as set forth below:

PART 102-117—TRANSPORTATION MANAGEMENT

1. The authority citation for part 102-117 continues to read as follows:

Authority: 31 U.S.C. 3726; 40 U.S.C. 121(c); 40 U.S.C. 501, et seq.; 46 U.S.C. 55305; 49 U.S.C. 40118.

§ 102-117.20 [Amended]

2. Amend § 102-117.20(a) by removing “(40 U.S.C. 481 et seq.)” and adding “(40 U.S.C. 501 et seq.)” in its place.

3. Amend § 102-117.25 by removing the definition “Governmentwide Transportation Policy Council (GTPC)” and adding the definition of “Government-wide Transportation Policy Council (GTPC)” in its place to read as follows:

§ 102-117.25 What definitions apply to this part?

* * * * *

Government-wide Transportation Policy Council (GTPC) is an interagency forum to help GSA formulate policy. It provides agencies managing transportation programs a forum to exchange information and ideas to solve common problems. For further information on this council, see website: https://gsa.gov/transportationpolicy.

* * * * *

§ 102-117.35 [Amended]

4. Amend § 102-117.35 by:

a. Adding “and” to the end of paragraph (b)(2);

b. Removing paragraph (b)(3); and

c. Redesignating paragraph (b)(4) as paragraph (b)(3).

5. Amend § 102-117.65 by revising paragraph (f) to read as follows:

§ 102-117.65 What terms and conditions must all rate tenders or contracts include?

* * * * *

(f) Other terms and conditions that may be specific to your agency or the TSP such as specialized packaging requirements or HAZMAT. For further information see the “U.S. Government Freight Transportation Handbook,” available at https://gsa.gov/transaudits.

6. Amend § 102-117.80 by revising paragraph (b) to read as follows:

§ 102-117.80 How are rate tenders filed?

* * * * *

(b) You must send two copies of the rate tender to: General Services Administration, Office of Travel, Employee Relocation and Transportation, Attn: Transportation Audits Division, 1800 F Street NW, 3rd Floor, Mail Hub 3400, Washington, DC 20405, or email:

(1) SDDCRates@gsa.gov subject line SDDC OTO Tenders (DoD only); or

(2) TEAL-Library@gsa.gov subject line GSA Rate Quotes, Tenders/Rate Quotes/Tariffs (all agencies except DoD).

§ 102-117.85 [Amended]

7. Amend § 102-117.85(a) by removing “Optional Forms 1103 or 1203, is a controlled document” and adding “Standard Form 1103, is a document” in its place.

8. Amend § 102-117.135 by:

a. Removing from paragraph (a)(1)(i) “http://www.state.gov/e/eb/tra/ata/index.htm” and adding “https://www.state.gov/civil-air-transport-agreements” in its place; and

b. Revising paragraph (b).

The revision reads as follows:

§ 102-117.135 What are the international transportation restrictions?

* * * * *

(b) Ocean cargo. International movement of property by water is subject to the Cargo Preference Act of 1954, as amended, 46 U.S.C. 55305, and the implementing regulations found at 46 CFR part 381, which require the use of a U.S. flag carrier for at least 50% of the tonnage shipped by each department or agency when service is available (see 46 CFR 381.7). The Maritime Administration (MARAD) monitors agency compliance with these laws. All departments or agencies shipping Government-impelled cargo must comply with the reporting provisions of 46 CFR 381.3. For further information contact MARAD, Tel: 202-366-4610, Email: cargo.marad@dot.gov. For further information on international ocean shipping, go to: https://www.maritime.dot.gov/ports/cargo-preference/cargo-preference.

9. Revise § 102-117.140 to read as follows:

§ 102-117.140 What is cargo preference?

Cargo preference is the statutory requirement that all, or a portion of all, U.S. Government owned, procured, furnished, or financed ocean-borne cargo that moves internationally be transported on U.S. flag vessels.

§ 102-117.145 [Amended]

10. Amend § 102-117.145 by removing “46 App. U.S.C. 883” from the second sentence and adding “46 U.S.C. Chapter 551” in its place.

11. Amend § 102-117.150 by revising paragraph (c) to read as follows:

§ 102-117.150 What do I need to know about coastwise laws?

* * * * *

(c) The Commissioner of United States Customs and Border Protection, by delegation of the Secretary of the Department of Homeland Security, and the Secretary of the Treasury are authorized to impose monetary penalties against agencies that violate the coastwise laws.

§ 102-117.155 [Amended]

12. Amend § 102-117.155 by removing “46 App. U.S.C. 883”, “800-987-3524”, and “U.S. Customs Service” and adding “46 U.S.C. Chapter 551”, “202-336-4610”, and “U.S. Customs and Border Protection” in their places, respectively.

13. Revise § 102-117.170 to read as follows:

§ 102-117.170 What reference materials are available to ship freight?

(a) Information and guidance on shipping Government-owned freight is available at https://gsa.gov/transportationpolicy.

(b) Information on transportation programs is available at https://gsa.gov/transportation.

(c) Transportation handbooks are available at https://gsa.gov/transaudits.

(d) Resources related to the transportation of freight are available on the Acquisition Gateway (https://hallways.cap.gsa.gov/). See the Transportation and Logistics Services Hallway for information specific to shipping freight.

14. Revise § 102-117.185 to read as follows:

§ 102-117.185 Where must I send a copy of the transportation documents?

(a) You must forward an original copy of all transportation documents to: General Services Administration, Office of Travel, Employee Relocation and Transportation, Attn: Transportation Audits Division, 1800 F Street NW, 3rd Floor, Mail Hub 3400, Washington, DC 20405, or email:

(1) SDDCRates@gsa.gov—subject line SDDC OTO Tenders (DOD only).

(2) TEAL-Libray@gsa.gov—subject line GSA Rate Quotes, Tenders/Rate Quotes/Tariffs (all agencies except DOD).

(b) For all property shipments subject to cargo preference laws (see § 102-117.140), a copy of the ocean carrier's bill of lading, showing all freight charges, must be sent to MARAD within 20 working days of the date of loading for shipments originating in the United States, the District of Columbia, its territories or possessions and within 30 working days for shipments originating outside the United States, the District of Columbia, its territories or possessions.

§ 102-117.220 [Amended]

15. Amend § 102-117.220 by:

a. Removing from paragraph (a)(3) “(see § 102-117.35)” and adding “(see § 102-117.30)” in its place; and

b. Removing the Note to § 102-117-220.

16. Revise § 102-117.235 to read as follows:

§ 102-117.235 How do I get a cost comparison?

(a) You may calculate a cost comparison internally according to 41 CFR part 302-7.

(b) You may request GSA to perform the cost comparison if you participate in the CHAMP program by sending GSA the following information as far in advance as possible:

(1) Name of employee;

(2) Origin city, county, and State;

(3) Destination city, county, and State;

(4) Date of household goods pick up;

(5) Estimated weight of shipments;

(6) Number of days storage-in-transit (if applicable); and

(7) Other relevant data.

(c) For more information on cost comparisons contact the Employee Relocation Resource Center at errc@gsa.gov.

§ 102-117.240 [Amended]

17. Amend § 102-117.240 by:

a. Designating the Note to § 102-117.240 as Note 1 to § 102-117.240; and

b. In newly designated Note 1 to § 102-117.240, removing “Transportation and Temporary Storage of Household Goods and Professional Books, Papers, and Equipment (PBP&E)” and adding “Transportation and Temporary Storage of Household Goods, Professional Books, Papers, and Equipment, (PBP&E) and Baggage Allowance” in its place.

18. Amend § 102-117.250 by revising paragraph (b) to read as follows:

§ 102-117.250 What are my responsibilities after shipping the household goods?

* * * * *

(b) Under the CHAMP program, you must counsel employees to fill out their portion of the GSA Form 3080, Household Goods Carrier Evaluation Report. This form reports the quality of the TSP's performance. TSPs generate the GSA Form 3080 within GSA's Transportation Management Services Solution (TMSS) system and send the employee a link to complete the form.

§ 102-117.260 [Amended]

19. Amend § 102-117.260(c) by removing “(41 CFR 302-8.2(f))” and adding “(41 CFR 302-7.12)” in its place.

§ 102-117.270 [Amended]

20. Amend § 102-117.270(a) by removing from the third sentence “Government Performance and Results Act (GPRA) of 1993” and adding “GPRA Modernization Act of 2010” in its place.

§ 102-117.300 [Amended]

21. Amend § 102-117.300(b) by removing “on the Excluded Parties Lists System (EPLS) maintained by GSA at http://www.epls.gov” and adding “on the System for Award Management (SAM) maintained by GSA at https://sam.gov/” in its place.

§ 102-117.315 [Amended]

22. Amend § 102-117.315 by removing “to the Excluded Parties List System: http://www.epls.gov”.

§ 102-117.325 [Amended]

23. Amend § 102-117.325 by removing “(40 U.S.C. 481(a)(4))” and adding “(40 U.S.C. 501(c)(1)(B))” in its place.

24. Revise § 102-117.335 to read as follows:

§ 102-117.335 How does my agency ask for a delegation of authority to represent itself in a regulatory body proceeding?

You must email your request with enough detail to explain the circumstances surrounding the need for a delegation of authority for representation to GSA-OGP-Transportationpolicy@gsa.gov.

§ 102-117.340 [Amended]

25. Amend § 102-117.340(b) by revising the last sentence to read as follows:

§ 102-117.340 What other types of assistance may GSA provide agencies in dealing with regulatory bodies?

* * * * *

(b) * * * For further information email transportation.programs@gsa.gov or contact: General Services Administration, Federal Acquisition Service, Office of Travel, Employee Relocation and Transportation, 1800 F Street NW, Washington, DC 20405.

§ 102-117.345 [Removed and Reserved]

26. Remove and reserve § 102-117.345.

27. Revise § 102-117.350 to read as follows:

§ 102-117.350 Do I have to report transportation data?

No, however all agencies are strongly encouraged to report data by October 31 for the preceding fiscal year to GSA at GSA-OGP-Transportationpolicy@gsa.gov.

§ 102-117.360 [Removed and Reserved]

28. Remove and reserve § 102-117.360.

29. Revise the heading of subpart L to read as follows:

Subpart L—Government-wide Transportation Policy

30. Amend § 102-117.361 by revising the section heading, introductory text, and paragraph (b) to read as follows:

§ 102-117.361 What is the Government-wide Transportation Policy Council (GTPC)?

The Office of Government-wide Policy sponsors a Government-wide Transportation Policy Council (GTPC) to help agencies establish, improve, and maintain effective transportation management policies, practices and procedures. The council:

* * * * *

(b) Provides assistance to your agency with reporting your transportation activity to GSA.

31. Revise § 102-117.362 to read as follows:

§ 102-117.362 Where can I get more information about the GTPC?

For more information about the GTPC, email GSA-OGP-Transportationpolicy@gsa.gov or visit https://www.gsa.gov/transportationpolicy.

32. Revise § 102-117.385 to read as follows:

§ 102-117.385 Is there a standard format for a Transportation Officer warrant?

No. Agencies may model the Transportation Officer warrant after the Contracting Officer warrant, or they may establish their own format.

33. Revise § 102-117.390 to read as follows:

§ 102-117.390 What are the recommended Transportation Officer training and/or experience levels?

The following are recommended agency transportation officer training and/or experience baselines:

(a) For a Basic (Level 1) Transportation Officer Warrant:

(1) Twenty-four (24) hours of training in Federal transportation; or

(2) Two (2) years of Federal, public, and/or commercial experience in acquiring transportation through rate tenders.

(b) For an Experienced (Level 2) Transportation Officer Warrant:

(1) Thirty-two (32) hours of training in transportation, including twenty (20) hours of training in Federal transportation; or

(2) Three (3) years of Federal, public, and/or commercial experience in acquiring transportation through rate tenders.

(c) For a Senior (Level 3) Transportation Officer Warrant:

(1) Sixty (60) hours of training in transportation, including forty (40) hours of training in Federal transportation; or

(2) Five (5) years of Federal, public, and/or commercial experience in acquiring transportation through rate tenders.

PART 102-118—TRANSPORTATION PAYMENT AND AUDIT

34. The authority citation for part 102-118 continues to read as follows:

Authority: 31 U.S.C. 3726; 40 U.S.C. 121(c); 40 U.S.C. 501, et seq.; 46 U.S.C. 55305; 49 U.S.C. 40118.

§ 102-118.35 [Amended]

35. Amend § 102-118.35 by:

a. In the definition of “Government Transportation Request (GTR) (Optional Form 1169)”, removing “charge card is not” and adding “charge card is not accepted by the TSP” in its place; and

b. In the definition of “Privately Owned Personal Property Government Bill of Lading”, removing “, Optional Form 1203,”.

36. Amend § 102-118.40(b) by revising the last sentence to read as follows:

§ 102-118.40 How does my agency order transportation and transportation services?

* * * * *

(b) * * * See the “U.S. Government Passenger Transportation Handbook,” available at https://www.gsa.gov/transaudits.

§ 102-118.65 [Amended]

37. Amend § 102-118.65 by removing “GSA Audit Division” and adding “GSA Transportation Audits Division” in its place.

38. Amend § 102-118.80 by revising the second and third sentences to read as follows:

§ 102-118.80 Who is responsible for keeping my agency's electronic commerce transportation billing records?

* * * In addition, the GSA Transportation Audits Division keeps a central repository of electronic transportation billing records for legal and auditing purposes. Therefore, your agency must forward all relevant electronic transportation billing documents to audit.policy@gsa.gov or: General Services Administration, Office of Travel, Employee Relocation and Transportation, Attn: Transportation Audits Division, 1800 F Street NW, 3rd Floor, Mail Hub 3400, Washington, DC 20405.

39. Amend § 102-118.90 by revising the third and fourth sentences to read as follows:

§ 102-118.90 If my agency orders transportation and/or transportation services with a Government contractor issued charge card or charge account citation, is this subject to prepayment audit?

* * * As with all prepayment audit programs, the charge card prepayment audit must be approved by the GSA Transportation Audits Division prior to implementation. If the charge card contract does not provide for a prepayment audit, your agency must submit the transportation line items on the charge card to the GSA Transportation Audits Division for a postpayment audit.

§ 102-118.92 [Amended]

40. Amend § 102-118.92 by:

a. Removing from the fourth sentence “GSA Audit Division” and adding “GSA Transportation Audits Division” in its place; and

b. Removing the last sentence.

41. Amend § 102-118.95 by:

a. Revising paragraphs (b) and (d); and

b. Removing the Note to § 102-118.95.

The revisions read as follows:

§ 102-118.95 What forms can my agency use to pay transportation bills?

* * * * *

(b) Standard Form (SF) 1103, Government Bill of Lading (used for movement of things, both privately owned and Government property for official uses);

* * * * *

(d) Privately Owned Personal Property Government Bill of Lading (used by the Department of Defense to move private property for official transfers).

42. Revise § 102-118.100 to read as follows:

§ 102-118.100 What must my agency ensure is on each SF 1113?

Your agency must ensure during its prepayment audit of a TSP bill that, when required, the TSP filled out the Public Voucher for Transportation Charges, SF 1113, completely including the taxpayer identification number (TIN) and standard carrier alpha code (SCAC).

43. Amend § 102-118.105 by revising the last sentence to read as follows:

§ 102-118.105 Where can I find the rules governing the use of a Government Bill of Lading?

* * * This handbook is available at https://www.gsa.gov/transaudits.

44. Amend § 102-118.110 by revising the last sentence to read as follows:

§ 102-118.110 Where can I find the rules governing the use of a Government Transportation Request?

* * * This handbook is available at https://www.gsa.gov/transaudits.

§ 102-118.115 [Amended]

45. Amend § 102-118.115 by removing “Optional Forms 1103 and 1203” from the second sentence and adding “GBL” in its place.

46. Amend § 102-118.140 by adding a sentence to the end of paragraph (a) and revising the last sentence in paragraph (d) to read as follows:

§ 102-118.140 What are the major mandatory terms and conditions governing the use of GBLs and bills of lading?

* * * * *

(a) * * *. An agency may choose not to require that an SF 1113 be attached to the bill of lading and invoice if the TSP submits invoices using the agency's approved third-party payment system (TPPS);

* * * * *

(d) * * * Only with the written concurrence of the Government official responsible for making the shipment is the deletion of this item considered to be valid;

* * * * *

47. Revise § 102-118.170 to read as follows:

§ 102-118.170 Will GSA continue to maintain a centralized numbering system for Government transportation documents?

No. For GTRs, GBLs, and commercial TDs, each agency must create a unique numbering system to account for and prevent duplicate numbers.

48. Amend § 102-118.195 by revising the first sentence to read as follows:

§ 102-118.195 What documents must a transportation service provider (TSP) send to receive payment for a transportation billing?

For shipments bought on a TD, the TSP must submit an original properly certified GBL, PPGBL, or bill of lading and, when appropriate, an SF 1113, Public Voucher for Transportation Charges. * * *

§ 102-118.230 [Amended]

49. Amend § 102-118.230 by removing “GSA Audit Division” and adding “GSA Transportation Audits Division” in its place.

50. Revise § 102-118.240 to read as follows:

§ 102-118.240 How does my agency get GBL and GTR forms?

The GBL (SF 1103) and GTR (OF 1169) are available in the GSA Forms Library at https://www.gsa.gov/forms.

51. Revise § 102-118.245 to read as follows:

§ 102-118.245 How does my agency get an assigned set of GBL or GTR numbers?

GSA no longer assigns numbers to GBLs or GTRs. Pursuant to § 102-118.55(g) you must establish administrative procedures including creating a unique numbering system to prevent and detect duplicate payments. These procedures should include agency assigned unique numbers for GBLs and GTRs.

52. Amend § 102-118.260 by:

a. Revising paragraph (a); and

b. Removing paragraphs (d) and (e).

The revision reads as follows:

§ 102-118.260 Must my agency send all quotations, tenders, or contracts with a TSP to GSA?

(a) Yes, your agency must send copies of each quotation, tender, or contract of special rates, fares, charges, or concessions with TSPs including those authorized by 49 U.S.C. 10721 and 13712, upon execution to—audit.policy@gsa.gov or General Services Administration, Office of Travel, Employee Relocation and Transportation, Attn: Transportation Audits Division, 1800 F Street NW, 3rd Floor, Mail Hub 3400, Washington, DC 20405.

* * * * *

53. Amend § 102-118.275 by revising paragraphs (c)(3) and (4) to read as follows:

§ 102-118.275 What must my agency consider when developing a transportation prepayment audit program?

* * * * *

(c) * * *

(3) Use the services of a prepayment audit contractor under GSA's multiple award schedule covering audit services, including transportation prepayment audit services (541211 Auditing Services); or

(4) Use a third-party payment system (TPPS) or charge card company that includes prepayment audit functions.

* * * * *

54. Amend § 102-118.280 by revising paragraph (a)(1) to read as follows:

§ 102-118.280 Must all transportation payment records, whether they are electronic or paper, undergo a prepayment audit?

* * * * *

(a) * * *

(1) Within the specified limits established by the Comptroller General (31 U.S.C. 3521(b)); and

* * * * *

§ 102-118.285 [Amended]

55. Amend § 102-118.285 by:

a. Removing from paragraph (e)(2) “General Records Schedule 9, Travel and Transportation (36 CFR 1228.22)” and adding “General Records Schedule 1.1 et seq. (36 CFR chapter XII, part 1220)” in its place; and

b. Removing from paragraph (i) “3726(b)” and adding “3726(d)” in its place.

56. Amend § 102-118.415 by revising the last sentence to read as follows:

§ 102-118.415 Can the Administrator of General Services exempt the transportation postpayment audit requirement?

* * * The Administrator can also exempt a particular mode or modes of transportation (31 U.S.C. 3726).

57. Amend § 102-118.470 by revising the section heading and introductory text to read as follows:

§ 102-118.470 Are there statutory time limits for a TSP on filing an administrative claim with the GSA Transportation Audits Division?

Yes, an administrative claim must be received by the GSA Transportation Audits Division or its designee (the agency where the claim arose) within 3 years beginning the day after the latest of the following dates (except in time of war):

* * * * *

58. Revise § 102-118.490 to read as follows:

§ 102-118.490 What if my agency fails to settle a dispute within 30 days?

(a) If your agency fails to settle a dispute within 30 days, the TSP may appeal to: General Services Administration, Office of Travel, Employee Relocation and Transportation, Attn: Transportation Audits Division, 1800 F Street NW, 3rd Floor, Mail Hub 3400, Washington, DC 20405; or electronically at: https://tams.gsa.gov.

(b) If the TSP disagrees with the administrative settlement by the GSA Transportation Audits Division, the TSP may appeal to the Civilian Board of Contract Appeals.

59. Revise § 102-118.500 to read as follows:

§ 102-118.500 How does my agency handle a voluntary refund submitted by a TSP?

(a) An agency must report all voluntary refunds to the GSA Transportation Audits Division (so that no Notice of Overcharge or financial offset occurs), unless other arrangements are made (e.g., charge card refunds, etc.). These reports must be addressed to: General Services Administration, Office of Travel, Employee Relocation and Transportation, Attn: Transportation Audits Division, 1800 F Street NW, 3rd Floor, Mail Hub 3400, Washington, DC 20405; or via email to: audits.policy@gsa.gov.

(b) Once a Notice of Overcharge is issued by the GSA Transportation Audits Division, then any refund is no longer considered voluntary and the agency must forward the refund to the GSA Transportation Audits Division.

§ 102-118.505 [Amended]

60. Amend § 102-118.505 by removing “GSA Audit Division” and adding “GSA Transportation Audits Division” in its place.

§ 102-118.510 [Amended]

61. Amend § 102-118.510 by removing from the last sentence “GSA Audit Division” and adding “GSA Transportation Audits Division” in its place.

§ 102-118.520 [Amended]

62. Amend § 102-118.520 by removing “Comptroller General” and adding “Secretary of the Treasury” in its place.

63. Amend § 102-118.530 by revising the second sentence and adding a third sentence to read as follows:

§ 102-118.530 Will GSA instruct my agency's disbursing offices to offset unpaid TSP billings?

* * * A 3-year limitation applies on the deduction of overcharges from amounts due a TSP (31 U.S.C. 3726). For ordinary debt there is no limitation on the period within which an offset may be initiated or taken (31 U.S.C. 3716).

64. Revise § 102-118.535 to read as follows:

§ 102-118.535 Are there principles governing my agency's TSP debt collection procedures?

Yes, the principles governing your agency collection procedures for reporting debts to the Government Accountability Office (GAO) or the Department of Justice are found in 31 CFR chapter IX and in the GAO Policy and Procedures Manual for Guidance of Federal Agencies (https://www.gao.gov/products/149099).

§ 102-118.540 [Amended]

65. Amend § 102-118.540 by removing from the first sentence “GSA Audit Division” and adding “GSA Transportation Audits Division” in its place.

66. Revise § 102-118.550 to read as follows:

§ 102-118.550 How does a TSP file an administrative claim using EDI or other electronic means?

A TSP should file a claim using GSA Transportation Audits Management System (TAMS) https://tams.gsa.gov.

67. Revise § 102-118.560 to read as follows:

§ 102-118.560 What is the required format that a TSP must use to file an administrative claim?

There is no required format for filing claims. TSPs should file a claim through TAMS or by sending the required information and documentation (see §§ 102-118.545 and 102-118.565) to GSA Transportation Audits Division—qmcadocrequest@gsa.gov or mail to: General Services Administration, Office of Travel, Employee Relocation and Transportation, Attn: Transportation Audits Division, 1800 F Street NW, 3rd Floor, Mail Hub 3400, Washington, DC 20405.

68. Revise § 102-118.575 to read as follows:

§ 102-118.575 If a TSP disagrees with the decision of my agency, can the TSP appeal?

Yes, the TSP may file a claim with the GSA Transportation Audits Division, which will review the TSP's appeal of your agency's final full or partial denial of a claim. The TSP may also appeal to the GSA Transportation Audits Division if your agency has not responded to a challenge within 30 days.

69. Amend § 102-118.580 by:

a. Revising the section heading;

b. Removing “The TSP must address requests:” and adding a sentence in its place in the introductory text; and

c. Removing paragraphs (a), (b), (c), and (d).

The revision and addition read as follows:

§ 102-118.580 May a TSP appeal a prepayment audit decision of the GSA Transportation Audits Division?

* * * Filing instructions including where and how to file are available at cbca.gov/howto/rules/transportation.html#transportation.

§ 102-118.590 [Amended]

70. Amend § 102-118.590 by removing “GSA Audit Division” everywhere it appears and adding “GSA Transportation Audits Division” in its place.

71. Revise § 102-118.600 to read as follows:

§ 102-118.600 When a TSP disagrees with a Notice of Overcharge resulting from a postpayment audit, what are the appeal procedures?

A TSP who disagrees with the Notice of Overcharge may submit a written request for reconsideration to the GSA Transportation Audits Division at: General Services Administration, Office of Travel, Employee Relocation and Transportation, Attn: Transportation Audits Division, 1800 F Street NW, 3rd Floor, Mail Hub 3400, Washington, DC 20405; or via email to audits.policy@gsa.gov.

§ 102-118.605 [Amended]

72. Amend § 102-118.605 by removing from paragraph (b) “GSA Audit Division” and adding “GSA Transportation Audits Division” in its place.

§ 102-118.610 [Amended]

73. Amend § 102-118.610 by removing from the first sentence “GSA Audit Division” and adding “GSA Transportation Audits Division” in its place.

§ 102-118.615 [Amended]

74. Amend § 102-118.615 by removing “GSA Audit Division” and adding “GSA Transportation Audits Division” in its place.

§ 102-118.620 [Amended]

75. Amend § 102-118.620 by removing “GSA Audit Division” everywhere it appears and adding “GSA Transportation Audits Division” in its place.

76. Revise § 102-118.630 to read as follows:

§ 102-118.630 How must a TSP refund amounts due to GSA?

(a) TSPs must promptly refund amounts due to GSA, preferably by EFT. If an EFT is not used, checks must be made payable to “General Services Administration”, including the document reference number, TSP name, bill number(s), taxpayer identification number and standard carrier alpha code, then mailed to: General Services Administration, Government Lock Box 9006, 1005 Convention Plaza, St. Louis, MO 63101.

(b) If an EFT address is needed, please contact the GSA Transportation Audits Division at: General Services Administration, Office of Travel, Employee Relocation and Transportation, Attn: Transportation Audits Division, 1800 F Street NW, 3rd Floor, Mail Hub 3400, Washington, DC 20405; or via email to audits.policy@gsa.gov.

Note 1 to § 102-118.630: Amounts collected by GSA are returned to the Treasurer of the United States (31 U.S.C. 3726).

§ 102-118.635 [Amended]

77. Amend § 102-118.635 by removing “(4 CFR parts 101 through 105)” and adding “(31 CFR chapter IX)” in its place.

§ 102-118.640 [Amended]

78. Amend § 102-118.640 by:

a. Removing from paragraphs (a) and (d) “4 CFR parts 101 through 105” and adding “31 CFR chapter IX” in its place; and

b. Removing from the last sentence in paragraph (b) “and a 10-year limitation applies on the deduction of ordinary debt (31 U.S.C. 3716)”.

79. Revise § 102-118.645 to read as follows:

§ 102-118.645 Can a TSP file an administrative claim on collection actions?

Yes, a TSP may file an administrative claim involving collection actions resulting from the transportation audit performed by the GSA directly with the GSA Transportation Audits Division. Any claims submitted to GSA will be considered “disputed claims” under section 4(b) of the Prompt Payment Act (31 U.S.C. 3901, et seq.). The TSP must file all other transportation claims with the agency out of whose activities they arose. If this is not feasible (e.g., where the responsible agency cannot be determined or is no longer in existence) claims may be sent to the GSA Transportation Audits Division for forwarding to the responsible agency or for direct settlement by the GSA Transportation Audits Division. Submit claims using Transportation Audits Management System (TAMS) at https://tams.gsa.gov or via mail: General Services Administration, Office of Travel, Employee Relocation and Transportation, Attn: Transportation Audits Division, 1800 F Street NW, 3rd Floor, Mail Hub 3400, Washington, DC 20405.

80. Amend § 102-118.655 by—

a. Removing “Address requests:” and adding a sentence in its place in the introductory text; and

b. Removing paragraphs (a), (b), (c), and (d).

The addition reads as follows:

§ 102-118.655 Are there time limits on a TSP request for an administrative review by the Civilian Board of Contract Appeals (CBCA)?

* * * Details regarding where and how to file are available at cbca.gov/howto/rules/transportation.html#transportation.

§ 102-118.670 [Amended]

81. Amend § 102-118.670 by removing “GSA Audit Division” and adding “GSA Transportation Audits Division” in its place.

[FR Doc. 2022-11050 Filed 5-27-22; 8:45 am]

BILLING CODE 6820-14-P